DEPARTMENT OF HEALTH AND HUMAN SERVICES

Centers for Medicare & Medicaid Services

[CMS-1474-N]

Medicare Program; Town Hall Meeting on the Inpatient Rehabilitation Facility Prospective Payment System

AGENCY: Centers for Medicare & Medicaid Services (CMS), HHS.

ACTION: Notice of meeting.

SUMMARY: This notice announces a town hall meeting to allow the public to discuss the inpatient rehabilitation facility (IRF) prospective payment system (PPS). Beneficiaries, providers, physicians, inpatient rehabilitation facilities staff, industry representatives, and other interested parties are invited to this meeting to present their views regarding the IRF PPS. The meeting is open to the public, but attendance is limited to space available.

DATES: Meeting Date: The town hall meeting announced in this notice will be held on Monday, May 19, 2003, from 10 a.m. to 1 p.m. (eastern daylight saving time).

ADDRESSES: The town hall meeting will be held in the auditorium at the Centers for Medicare & Medicaid Services, 7500 Security Boulevard, Baltimore, MD 21244.

FOR FURTHER INFORMATION CONTACT: August Nemec, 410-786-0612. You may also send inquiries about this meeting via e-mail to ANemec@cms.hhs.gov.

SUPPLEMENTARY INFORMATION:

I. Background

On August 7, 2001, we published a final rule entitled “Medicare Program; Prospective Payment System for Inpatient Rehabilitation Facilities (CMS-1069-F)” in the Federal Register (66 FR 41316), that established a prospective payment system (PPS) for inpatient rehabilitation facilities (IRFs) as authorized under section 1886(j) of the Social Security Act (the Act). The IRF PPS regulations are codified at 42 CFR part 412, subpart P. In the August 7, 2001 final rule, we set forth per discharge Federal prospective payment rates for the fiscal year (FY) 2002 that provided payment for inpatient operating and capital costs of furnishing covered rehabilitation services (that is, routine, ancillary, and capital costs) but not costs of approved educational activities, bad debts, and other services or items that are outside the scope of the IRF PPS. The provisions of that final rule were effective for cost reporting periods beginning on or after January 1, 2002. (On July 1, 2002, we published a correcting amendment to the final rule in the Federal Register (67 FR 44073). Any reference to the August 7, 2001 final rule in this proposed rule includes the provisions effective in the correcting amendment.)

Section 1886(j)(5) of the Act and § 412.628 of the regulations requires the Secretary to publish in the Federal Register, on or before August 1 of the preceding fiscal year, the classifications and weighting factors for the IRF case-mix groups (CMGs) and a description of the methodology and data used in computing the prospective payment rates for the upcoming fiscal year. On August 1, 2002, we published a notice in the Federal Register (67 FR 49928) to update the IRF Federal prospective payment rates from FY 2002 to FY 2003 using the methodology described in § 412.624 of the regulations. As stated in that notice, we used the same classifications and weighting factors for the IRF CMGs that were set forth in the August 7, 2001 final rule to update the IRF Federal prospective payment rates from FY 2002 to FY 2003. The FY 2003 Federal prospective payment rates are effective for discharges on or after October 1, 2002 and before October 1, 2003.

After implementing the IRF PPS on January 1, 2002 and through the first quarter of calendar year 2002, we held conference calls with the IRF industry. These conference calls were beneficial for our staff and the IRF industry to understand and address the issues and concerns of implementing this new PPS. Since the IRF PPS has been implemented for over one year, we believe that this town hall meeting will provide interested parties with the opportunity to discuss issues and concerns regarding the IRF PPS.

In the near future, we anticipate publishing a proposed rule to set forth proposed updated FY 2004 IRF prospective payment rates and to propose other changes to the IRF PPS. It is important to note that if the proposed rule is published before the IRF town hall meeting, statements and comments made or received during the town hall meeting will not be accepted and considered as official comments on the proposed rule. To be considered as official comments, the procedures described in the DATES, ADDRESSES, and SUPPLEMENTARY INFORMATION sections of the proposed rule must be followed.

II. Meeting Format

The meeting will begin with an overview of the goals of the meeting. The meeting moderator will be introduced along with members of the CMS IRF PPS Panel. After a brief overview of the IRF PPS, the moderator will lead a discussion of the written statements received before the town hall meeting as described below. We have developed an agenda (to be posted on the CMS Web site discussed below) for the meeting consisting of the following aspects of the IRF PPS: (1) The IRF patient classification and payment systems; (2) the IRF patient assessment instrument; and (3) the requirements for a hospital or a unit of a hospital to be classified as an IRF.

Beginning on or about April 28, 2003, information about the IRF PPS town hall meeting will be posted at the following Web site address: www.cms.hhs.gov/providers/irfpps/default.asp. At this address, interested parties will find important information on the town hall meeting including an agenda for the meeting and handouts to be used during the discussions.

We will limit the time for participants to make formal statements according to the number of registered participants. Individuals who wish to make formal statements must contact August Nemec as soon as possible. Those individuals must subsequently submit their formal statement in writing so that it is received by CMS no later than 5 p.m., Monday, May 12, 2003. Send written submissions to: August Nemec, Division of Institutional Post Acute Care, Centers for Medicare & Medicaid Services, 7500 Security Boulevard, Mail Stop C5-06-27, Baltimore, Maryland 21244 or ANemec@cms.hhs.gov. If time permits, statements from individuals not registered to speak will be heard after individuals with scheduled statements.

III. Registration Instructions

The Division of Institutional Post Acute Care is coordinating meeting registration. While there is no registration fee, all individuals must register to attend. Because this meeting will be located on Federal property, for security reasons, any persons wishing to attend this meeting must register by writing or e-mailing the actual names of the attendees to August Nemec at least 72 hours in advance of the meeting date. Attendees must show photographic identification to the Federal Protective Service or Guard Service personnel before they will be permitted to enter the building. Individuals who have not registered in advance will not be allowed to enter the building to attend the meeting. The meeting is limited to registered persons, and seating capacity is limited to the first 250 registrants.

Individuals requiring sign language interpretation for the hearing impaired or other special accommodations should contact August Nemec at least 10 days before the meeting.

Authority: Section 1886(j) of the Social Security Act (42 U.S.C. 1395ww(j)).

(Catalog of Federal Domestic Assistance Program No. 93.773, Medicare—Hospital Insurance; and Program No. 93.774, Medicare—Supplementary Medical Insurance Program)
Dated: March 24, 2003.
Thomas A. Scully,
Administrator, Centers for Medicare & Medicaid Services.

[FR Doc. 03-7495 Filed 3-27-03; 8:45 am]

BILLING CODE 4120-01-P